FEDERAL COMMUNICATIONS COMMISSION

[DA 15-649]

Disability Advisory Committee; Announcement of Next Meeting

AGENCY: Federal Communications Commission.

ACTION: Notice.

SUMMARY: This document announces the date of the next meeting of the Commission's Disability Advisory Committee (Committee or DAC). The meeting is open to the public. During this meeting, an announcement of new Committee co-chairs will be made, and members of the Committee will receive and discuss summaries of activities and recommendations from its subcommittees.

DATES: The Committee's next meeting will take place on Tuesday, June 23, 2015, 9:00 a.m. to 3:00 p.m. (EST).

ADDRESSES: Federal Communications Commission, 445 12th Street SW., Washington, DC 20554, in the Commission Meeting Room.

FOR FURTHER INFORMATION CONTACT: Elaine Gardner, Consumer and Governmental Affairs Bureau: 202-418-0581 (voice); email: DAC@fcc.gov; or Suzy Rosen Singleton, Alternate DAC Designated Federal Officer, Consumer and Governmental Affairs Bureau: 202-510-9446 (VP/voice), at the same email address: DAC@fcc.gov.

SUPPLEMENTARY INFORMATION: The Committee was established in December 2014 to make recommendations to the Commission on a wide array of disability matters within the jurisdiction of the Commission, and to facilitate the participation of people with disabilities in proceedings before the Commission. The Committee is organized under, and operated in accordance with, the provisions of the Federal Advisory Committee Act (FACA). The Committee held its first meeting on March 17, 2015.

At its June 23, 2015 meeting, an announcement will be made of new Committee Co-chairs: Claude Stout of Telecommunications for the Deaf and Hard of Hearing, Inc.; and Susan Mazrui of AT&T Services, Inc. In addition, the Committee will consider reports and the following recommendations from its subcommittees: A recommendation from its Relay/Equipment Distribution Subcommittee regarding modification of the speed of answer requirements for video relay service; a recommendation from its Communications Subcommittee regarding ways to identify gaps in available research about the communications product and service preferences, barriers, and information needs of people with disabilities; and a recommendation from the Emergency Communications Subcommittee to endorse the Communications Security, Reliability and Interoperability Council (CSRIC) IV Working Group 2's report and recommendations for improvements to the Wireless Emergency Alerts (WEA). The Committee will also receive a presentation summarizing the Video Description Roundtable hosted by the Video Programming Subcommittee on June 22, 2015. A limited amount of time may be available on the agenda for comments and inquiries from the public. The public may comment or ask questions of presenters via the email address livequestions@fcc.gov.

The meeting site is fully accessible to people using wheelchairs or other mobility aids. Sign language interpreters, open captioning, and assistive listening devices will be provided on site. Other reasonable accommodations for people with disabilities are available upon request. If making a request for an accommodation, please include a description of the accommodation you will need and tell us how to contact you if we need more information. Make your request as early as possible by sending an email to fcc504@fcc.gov or calling the Consumer and Governmental Affairs Bureau at 202-418-0530 (voice), 202-418-0432 (TTY). Last minute requests will be accepted, but may be impossible to fill. The meeting will be webcast with open captioning, at: www.fcc.gov/live.

To request materials in accessible formats for people with disabilities (Braille, large print, electronic files, audio format), send an email to fcc504@fcc.gov or call the Consumer and Governmental Affairs Bureau at (202) 418-0530 (voice), (202) 418-0432 (TTY).

Federal Communications Commission.
D'wana Terry,
Associate Bureau Chief, Consumer and Governmental Affairs Bureau.

[FR Doc. 2015-13822 Filed 6-4-15; 8:45 am]

BILLING CODE 6712-01-P